DEPARTMENT OF STATE

[Public Notice 3367]

Bureau of Oceans, International Environmental and Scientific Affairs; Public Meeting To Discuss Progress on International Harmonization of Chemical Hazard Classification and Labeling

SUMMARY: The United States government, through an interagency working group, is preparing for a series of international meetings to further develop a globally harmonized system (GHS) of chemical hazard classification and labeling. The Department of State will hold a public meeting to provide an update on recent activities and a preview of upcoming international meetings.

The public meeting will take place on Thursday, August 10, 2000, from 10:00 AM until noon in Room C5521 at the U.S. Department of Labor, 200 Constitution Avenue NW, Washington, DC. Attendees should use the entrance at C and Third Streets NW. Attendees should bring picture identification with them. No advance registration is necessary. For further information, please contact Marie Ricciardone, U.S. Department of State, Office of Environmental Policy (OES/ENV), Room 4325, 2201 C Street NW, Washington, DC 20520; telephone (202) 647-9799; fax (202) 647-5947; e-mail RicciardoneMD@state.gov.

SUPPLEMENTARY INFORMATION: The U.S. Department of State is issuing this notice to help ensure that interested organizations and individuals are aware of and knowledgeable about the effort to internationally harmonize chemical hazard classification and labeling, and have an opportunity to offer comments. Agencies participating in the U.S. government interagency group include: Department of State, Environmental Protection Agency, Department of Transportation, Occupational Safety and Health Administration, Consumer Product Safety Commission, Food and Drug Administration, Department of Commerce, Department of Agriculture, Office of the U.S. Trade Representative, and National Institute of Environmental Health Sciences. For more complete information on the GHS process, please refer to State Department Public Notice 2526, pages 15951-15957 of the Federal Register of April 3, 1997.

This meeting will provide an update on GHS activities since the previous public meeting on April 27, 2000 (see Department of State Public Notice 3276 on pages 19036-19037 of the Federal Register of April 10, 2000):

—Fifth Meeting of the Inter-Organization Program for the Sound Management of Chemicals (IOMC)/International Labor Organization (ILO) Working Group of Hazard Communication, May 22-24, Geneva, Switzerland.

—Sixteenth Consultation of the IOMC Coordinating Group for the Harmonization of Chemical Classification Systems, May 25-26, Geneva, Switzerland.

—Sixth Meeting of the Organization for Economic Cooperation and Development (OECD) Expert Group on Classification Criteria for Chemical Mixtures, May 29-31, Paris, France.

—Eighteenth Session of the UN Subcommittee on Experts on the Transport of Dangerous Goods, July 3-13, Geneva, Switzerland.

Members of the interagency working group will also provide an overview of the U.S. preparations for upcoming international meetings:

— The Seventh Meeting of the OECD Extended Expert Group on Aquatic Environmental Hazards (Paris, September 4-5) will develop guidance for applying harmonized hazard classification criteria for aquatic toxicity of chemical substances, decide on a work plan for a Dissolution Protocol, and develop harmonized hazard classification criteria for aquatic toxicity of chemical mixtures.

— The Tenth Meeting of the OECD Task Force on Harmonization of Classification and Labeling (Paris, September 6-8) will consider harmonized hazard classification criteria for chemical mixtures, examine hazard classification criteria for target organ/systemic toxicity, and review the work of the Extended Expert Group on Aquatic Environmental Hazards.

Interested organizations and individuals are invited to present their views orally and/or in writing at the public meeting. Participants may address other topics relating to harmonization of chemical hazard classification and labeling systems, and identify issues of concern. Those organizations/individuals that cannot attend the August 10 meeting, but wish to submit a written comment, should provide Eunice Mourning of the Office of Environmental Policy, U.S. Department of State (telephone 202-647-9266; fax 202-647-5947) with their statement and/or name, organization, address, telephone and fax numbers, and e-mail address. All written comments will be placed in the OSHA public docket (H-022H), which is open Monday through Friday, from 10 AM until 4 PM, at the Department of Labor, Room 2625, 200 Constitution Avenue NW, Washington, DC; telephone 202-219-7894; fax: 202-219-5046. Interested organizations/individuals that wish to receive future notifications of GHS-related developments by email should contact Mary Frances Lowe of the U.S. Environmental Protection Agency at “lowe.maryfrances@epa.gov”.

Dated: July 17, 2000.
Daniel T. Fantozzi,
Director, Office of Environmental Policy, U.S. Department of State.

[FR Doc. 00-18553 Filed 7-20-00; 8:45 am]

BILLING CODE 4710-06-P